DEPARTMENT OF ENERGY

Federal Energy Regulatory Commission

[Docket No. ER02-504-003, et al.]

Dayton Power and Light Company, et al.; Electric Rate and Corporate Regulation Filings

April 3, 2002.

Take notice that the following filings have been made with the Commission. Any comments should be submitted in accordance with Standard Paragraph E at the end of this notice.

1. Dayton Power and Light Company

[Docket No. ER02-504-003]

Take notice that on March 28, 2002, Dayton Power and Light (DP&L) tendered for filing an amendment to a service agreement between The Dayton Power and Light Company (DP&L) and DP&L Energy Services in the above captioned docket.

Comment Date: April 18, 2002.

2. New York Independent System Operator, Inc.

[Docket No. ER02-638-001]

Take notice that on March 29, 2002, the New York System Operator, Inc. (NYISO) filed revisions to its Open Access Transmission Tariff and Services Tariff pursuant to the Commission's February 26, 2002 order. The purpose of this filing is to eliminate tariff provisions pertaining to the NYISO's three proposed pre-scheduling enhancements which the February 26 Order rejected without prejudice. The NYISO has requested an effective date of April 11, 2002, for the compliance filing.

The NYISO has mailed a copy of this compliance filing to all persons that have filed interconnection applications or executed Service Agreements under the NYISO Open Access Transmission Tariff, to the New York State Public Service Commission, and to the electric utility regulatory agencies in New Jersey and Pennsylvania. The NYISO has also mailed a copy to each person designated on the official service list maintained by the Commission for the above-captioned proceeding.

Comment Date: April 19, 2002.

3. Entergy Power Ventures, L.P.

[Docket No. ER02-862-001]

Take notice that on March 29, 2002, Entergy Power Ventures, L.P., tendered for filing with the Federal Energy Regulatory Commission (Commission) revised tariff sheets pursuant to a Commission order issued on March 19, 2002.

Copies of this filing have been served on the Arkansas Public Service Commission, Mississippi Public Service Commission, Louisiana Public Service Commission, Texas Public Utility Commission, and the Council of the City of New Orleans.

Comment Date: April 19, 2002.

4. California Independent System Operator Corporation

[Docket No. ER02-1403-000]

Take notice that on March 29, 2002, the California Independent System Operator Corporation, (ISO) tendered for filing with the Federal Energy Regulatory Commission (Commission) a Participating Generator Agreement between the ISO and El Dorado Irrigation District for acceptance by the Commission.

The ISO states that this filing has been served on El Dorado Irrigation District and the California Public Utilities Commission. The ISO is requesting waiver of the 60-day notice requirement to allow the Participating Generator Agreement to be made effective March 19, 2002.

Comment Date: April 19, 2002.

5. California Independent System Operator Corporation

[Docket No. ER02-1404-000]

Take notice that on March 29, 2002, the California Independent System Operator Corporation, (ISO) tendered for filing with the Federal Energy Regulatory Commission (Commission) a Participating Generator Agreement between the ISO and El Dorado Irrigation District for acceptance by the Commission.

The ISO states that this filing has been served on El Dorado Irrigation District and the California Public Utilities Commission. The ISO is requesting waiver of the 60-day notice requirement to allow the Participating Generator Agreement to be made effective March 19, 2002.

Comment Date: April 19, 2002.

6. Northeast Utilities Service Company

[Docket No. ER02-1405-000]

Take notice that on March 29, 2002, Northeast Utilities Service Company (NUSCO), on behalf of The Connecticut Light and Power Company, Western Massachusetts Electric Company, Holyoke Water Power Company, and Select Energy, Inc., submitted pursuant to Section 205 of the Federal Power Act and Part 35 of the Federal Energy Regulatory Commission's (Commission) regulations, rate schedule changes for sales of electricity to the City of Chicopee, Massachusetts (Chicopee).

NUSCO states that a copy of this filing has been mailed to Chicopee and the regulatory commission for the Commonwealth of Massachusetts. NUSCO requests that the rate schedule changes become effective on March 31, 2002.

Comment Date: April 19, 2002.

7. Acadia Power Partners, LLC

[Docket No. ER02-1406-000]

Take notice that on March 29, 2002, Acadia Power Partners, LLC (the Applicant) tendered for filing, under section 205 of the Federal Power Act (FPA), a request for authorization to make wholesale sales of electric energy, capacity, replacement reserves, and ancillary services at market-based rates, to reassign transmission capacity, and to resell firm transmission rights. Applicant proposes to own and operate a nominal 1100-megawatt electric generation facility located in Louisiana. Applicant also submitted for filing two power purchase agreements for which it requests privileged treatment.

Comment Date: April 19, 2002.

8. Entergy Services, Inc.

[Docket No. ER02-1407-000]

Take notice that on March 29, 2002, Entergy Services, Inc., (Entergy) on behalf of Entergy Arkansas, Inc., tendered for filing a Long-Term Market Rate Sales Agreement between Entergy Arkansas, Inc. and East Texas Electric Cooperative, Inc. under Entergy Services, Inc.”s Rate Schedule SP.

Entergy requests an effective date of March 1, 2002.

Comment Date: April 19, 2002.

9. Entergy Services, Inc.

[Docket No. ER02-1408-000]

Take notice that on March 29, 2002, Entergy Services, Inc., on behalf of Entergy Arkansas, Inc., Entergy Gulf States, Inc., Entergy Louisiana, Inc., Entergy Mississippi, Inc., and Entergy New Orleans, Inc., (collectively, the Entergy Operating Companies) tendered for filing a Non-Firm Point-To-Point Transmission Service Agreement and a Short-Term Firm Point-To-Point Transmission Service Agreement both between Entergy Services, Inc., as agent for the Entergy Operating Companies, and TECO EnergySource, Inc.

Comment Date: April 19, 2002.

10. American Electric Power Service Corporation

[Docket No. ER02-1409-000]

Take notice that on March 29, 2002, the American Electric Power Service Corporation (AEPSC), tendered for filing Firm and Non-Firm Point-to-Point Transmission (PTP) Service Agreements and Long-Term Firm PTP Service Agreement Specifications for North Carolina Electric Membership Corporation (NCEMC). These agreements are pursuant to the AEP Companies' Open Access Transmission Service Tariff that has been designated as the Operating Companies of the American Electric Power System FERC Electric Tariff Second Revised Volume No. 6.

AEPSC requests waiver of notice to permit the Service Agreements to be made effective on and after March 1, 2002. A copy of the filing was served upon the Parties and the state utility regulatory commissions of Arkansas, Indiana, Kentucky, Louisiana, Michigan, Ohio, Oklahoma, Tennessee, Texas, Virginia and West Virginia.

Comment Date: April 19, 2002.

11. West Texas Utilities Company

[Docket No. ER02-1410-000]

Take notice that on March 29, 2002, West Texas Utilities Company (WTU) submitted for filing ERCOT Regional Transmission Service Agreements with Brazos Electric Power Cooperative, Inc., Big Country Electric Cooperative, Inc., Coleman County Electric Cooperative, Inc., Concho Valley Electric Cooperative, Inc., Lighthouse Electric Cooperative, Inc., Pedernales Electric Cooperative, Inc., Rio Grande Electric Cooperative, Inc., Southwest Texas Electric Cooperative, Inc. and Taylor Electric Cooperative, Inc. and Network Integration Transmission Service Agreements with Golden Spread Electric Cooperative, Inc. and Lighthouse Electric Cooperative, Inc. to reflect the inclusion of customer specific directly assigned distribution charges.

WTU seeks an effective date of April 1, 2002 and, accordingly, seeks waiver of the Commission's notice requirements. WTU served a copy of the filing on each of the affected customers and the Public Utilities Commission of Texas.

Comment Date: April 18, 2002.

12. MNS Wind Company LLC

[Docket No. ER02-1411-000]

Take notice that on March 28, 2002, MNS Wind Company LLC (MNS) petitioned the Federal Energy Regulatory Commission (Commission) for authority to sell electricity at market-based rates under Section 205(a) of the Federal Power Act, for the granting of certain blanket approvals and for the waiver of certain Commission regulations. MNS is a limited liability company that proposes to engage in the wholesale sale of electric power in the state of Nevada.

Comment Date: April 18, 2002.

13. NRG Rockford II LLC

[Docket No. ER02-1412-000]

Take notice that on March 28, 2002, NRG Rockford II LLC, a limited liability corporation organized under the laws of the State of Illinois, filed under section 205 of the Federal Power Act, a request that the Federal Energy Regulatory Commission (Commission) (1) accept for filing a proposed market-based FERC Rate Schedule and Service Agreement thereunder; (2) grant blanket authority to make market-based wholesale sales of capacity and energy under its FERC Rate Schedule; (3) grant authority to sell ancillary services at market-based rates; and (4) grant such waivers and blanket authorizations as the Commission has granted in the past to other nonfranchised entities with market-based rate authority.

Comment Date: April 18, 2002.

14. Columbus Southern Power Company

[Docket No. ER02-1413-000]

Take notice that on March 28, 2002, Columbus Southern Power Company (CSP), tendered for filing with the Federal Energy Regulatory Commission's (Commission) Notice of Cancellation for Service Agreement No. 2 under FERC Electric Tariff, Fifth Revised Volume No. 1 (Service Agreement No. 2), which became effective on October 1, 1984.

CSP states that the City of Jackson, Ohio (Jackson), the only customer served by CSP under Service Agreement No. 2, provided written notification of Jackson's election to terminate Service Agreement No. 2, and that CSP and Jackson have agreed that Service Agreement No. 2 and service to Jackson under CSP's cost-based rates would terminate March 31, 2002.

Since no service is to be provided by CSP under Service Agreement No. 2 after March 31, 2002, CSP requests, for good cause shown, in accordance with Section 35.15 of the Commission's Regulations, that its Notice of Cancellation be made effective as of April 1, 2002.

CSP further states that copies of its filing have been served upon the Public Utilities Commission of Ohio and Jackson.

Comment Date: April 18, 2002.

15. American Electric Power Service Corporation

[Docket No. ER02-1414-000]

Take notice that on March 28, 2002 American Electric Power Service Corporation tendered for filing three (3) Service Agreements which include a Service Agreement for a new customer and two replacement Service Agreements for existing customers under the AEP Companies' Power Sales Tariffs. The Power Sales Tariffs were accepted for filing effective October 10, 1997 and have been designated AEP Operating Companies' FERC Electric Tariff Original Volume No. 5 (Wholesale Tariff of the AEP Operating Companies) and FERC Electric Tariff Original Volume No. 8, effective January 8, 1998 in Docket No. ER98-542-000 (Market-Based Rate Power Sales Tariff of the CSW Operating Companies). AEPSC respectfully requests waiver of notice to permit the attached Service Agreements to be made effective on or prior to March 1, 2002.

A copy of the filing was served upon the Parties and the State Utility Regulatory Commissions of Arkansas, Indiana, Kentucky, Louisiana, Michigan, Ohio, Oklahoma, Tennessee, Texas, Virginia and West Virginia.

Comment Date: April 18, 2002.

16. American Transmission Systems, Inc.

[Docket No. ER02-1415-000]

Take notice that on March 28, 2002, American Transmission Systems, Inc., filed a Service Agreement to provide Non-Firm Point-to-Point Transmission Service for UBS AG, London Branch, the Transmission Customer. Services are being provided under the American Transmission Systems, Inc. Open Access Transmission tariff submitted for filing by the Federal Energy Regulatory Commission (Commission) in Docket No. ER99-2647-000. The proposed effective date under the Service Agreement is March 27, 2002 for the above mentioned Service Agreement in this filing.

Comment Date: April 18, 2002.

17. American Transmission Systems, Inc.

[Docket No. ER02-1416-000]

Take notice that on March 28, 2002, American Transmission Systems, Inc., filed a Service Agreement to provide Firm Point-to-Point Transmission Service for UBS AG, London Branch, the Transmission Customer. Services are being provided under the American Transmission Systems, Inc. Open Access Transmission tariff submitted for filing by the Federal Energy Regulatory Commission (Commission) in Docket No. ER99-2647-000. The proposed effective date under the Service Agreement is March 27, 2002 for the above mentioned Service Agreement in this filing.

Comment Date: April 18, 2002.

18. Virginia Electric and Power Company

[Docket No. ER02-1417-000]

Take notice that on March 27, 2002, Virginia Electric and Power Company (Dominion Virginia Power or the Company) tendered for filing the following Service Agreement for Firm Point-to-Point Transmission Service by Virginia Electric and Power Company to Progress Ventures Inc. designated as Service Agreement No. 353 under the Company's FERC Electric Tariff, Second Revised Volume No. 5.

Service Agreement for Non-Firm Point-to-Point Transmission Service by Virginia Electric and Power Company to Progress Ventures Inc. designated as Service Agreement No. 354 under the Company's FERC Electric Tariff, Second Revised Volume No. 5.

The foregoing Service Agreements are tendered for filing under the Open Access Transmission Tariff to Eligible Purchasers effective June 7, 2000. Under the tendered Service Agreements, Dominion Virginia Power will provide point-to-point service to Progress Ventures Inc. under the rates, terms and conditions of the Open Access Transmission Tariff.

Dominion Virginia Power requests an effective date of March 20, 2002, as requested by the customer. Copies of the filing were served upon Progress Ventures Inc., the Virginia State Corporation Commission, and the North Carolina Utilities Commission.

Comment Date: April 18, 2002.

19. South Carolina Electric & Gas Company

[Docket No. ER02-1418-000]

Take notice that on March 28, 2002, South Carolina Electric & Gas Company (SCE&G) filed a Network Integration Transmission Service Agreement and a Network Operating Agreement between SCE&G Electric Transmission and SCE&G Merchant Function (Agreement), under which SCE&G Merchant Function will take transmission service pursuant to SCE&G Electric Transmission's Open Access Transmission Service Tariff in order to provide the transmission service necessary to allow SCE&G to provide power and energy to the City of Greenwood, South Carolina (Greenwood) pursuant to an agreement with Greenwood under SCE&G's Negotiated Market Sales Tariff. SCE&G has requested an effective date for this Agreement of March 1, 2002.

SCE&G states that a copy of the filing has been served on SCE&G Merchant Function, Greenwood and the South Carolina Public Service Commission.

Comment Date: April 18, 2002.

20. South Carolina Electric & Gas Company

[Docket No. ER02-1419-000]

Take notice that on March 28, 2002 South Carolina Electric & Gas Company (SCE&G) filed a Full Requirements Firm Power Service Agreement (Agreement) between SCE&G the City of Greenwood, South Carolina (Greenwood), under which SCE&G will provide full requirements firm power service pursuant to SCE&G's Network Market Sales Tariff.

SCE&G has requested an effective date for this Agreement of March 1, 2002.SCE&G states that a copy of the filing has been served on Greenwood and the South Carolina Public Service Commission.

Comment Date: April 18, 2002.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-8502 Filed 4-8-02; 8:45 am]

BILLING CODE 6717-01-P